DEPARTMENT OF ENERGY

Federal Energy Regulatory Commission

Combined Notice of Filings #1

Take notice that the Commission received the following electric corporate filings:

Docket Numbers: EC25-88-000.

Applicants: Berkshire Hathaway Inc.

Description: Errata to 05/15/2025 Application for Authorization Under Section 203 of the Federal Power Act of Berkshire Hathaway Inc.

Filed Date: 5/23/25.

Accession Number: 20250523-5302.

Comment Date: 5 p.m. ET 7/22/25.

Take notice that the Commission received the following exempt wholesale generator filings:

Docket Numbers: EG25-340-000.

Applicants: Prospect Power, LLC.

Description: Prospect Power, LLC submits Notice of Self-Certification of Exempt Wholesale Generator Status.

Filed Date: 5/28/25.

Accession Number: 20250528-5080.

Comment Date: 5 p.m. ET 6/18/25.

Take notice that the Commission received the following Complaints and Compliance filings in EL Dockets:

Docket Numbers: EL25-86-000.

Applicants: Old Dominion Electric Cooperative and Blue Ridge Power Agency v. American Electric Power Company, Appalachian Power Company.

Description: Complaint of Old Dominion Electric Cooperative and Blue Ridge Power Agency v. American Electric Power Company, Appalachian Power Company.

Filed Date: 5/27/25.

Accession Number: 20250527-5201.

Comment Date: 5 p.m. ET 6/27/25.

Docket Numbers: EL25-86-000.

Applicants: Old Dominion Electric Cooperative and Blue Ridge Power Agency v. American Electric Power Company, Appalachian Power Company.

Description: Errata to the 05/27/2025 Confidential Complaint of Old Dominion Electric Cooperative and Blue Ridge Power Agency v. American Electric Power Company, Appalachian Power Company.

Filed Date: 5/28/25.

Accession Number: 20250528-5011.

Comment Date: 5 p.m. ET 6/27/25.

Take notice that the Commission received the following electric rate filings:

Docket Numbers: ER10-1821-022.

Applicants: Goshen Phase II LLC.

Description: Supplement to 06/30/2022, Triennial Market Power Analysis for the Northwest Region of Goshen Phase II LLC.

Filed Date: 5/22/25.

Accession Number: 20250522-5173.

Comment Date: 5 p.m. ET 6/12/25.

Docket Numbers: ER20-2576-004.

Applicants: Holloman Lessee LLC.

Description: Compliance filing: Aulander Holloman Solar, LLC submits tariff filing per 35: Compliance to 1630 to be effective N/A.

Filed Date: 5/28/25.

Accession Number: 20250528-5003.

Comment Date: 5 p.m. ET 6/18/25.

Docket Numbers: ER22-763-002.

Applicants: Wildwood Lessee, LLC.

Description: Compliance filing: Ranchland Solar, LLC submits tariff filing per 35: Compliance to 2106 to be effective N/A.

Filed Date: 5/28/25.

Accession Number: 20250528-5001.

Comment Date: 5 p.m. ET 6/18/25.

Docket Numbers: ER24-2022-002.

Applicants: Black Hills Power, Inc.

Description: Compliance filing: Order Nos. 2023 and 2023-A Further Compliance Filing (Amended) to be effective 8/1/2024.

Filed Date: 5/28/25.

Accession Number: 20250528-5070.

Comment Date: 5 p.m. ET 6/18/25.

Docket Numbers: ER25-1838-000.

Applicants: Michigan Electric Transmission Company, LLC.

Description: Motion of Michigan Electric Transmission Company LLC for Leave to Supplement the Administrative Record and Request for New Effective Date.

Filed Date: 5/28/25.

Accession Number: 20250528-5138.

Comment Date: 5 p.m. ET 6/18/25.

Docket Numbers: ER25-1839-000.

Applicants: Michigan Electric Transmission Company, LLC.

Description: Motion of Michigan Electric Transmission Company LLC for Leave to Supplement the Administrative Record and Request for New Effective Date.

Filed Date: 5/27/25.

Accession Number: 20250527-5052.

Comment Date: 5 p.m. ET 6/17/25.

Docket Numbers: ER25-2320-000.

Applicants: North Hills Wind Project, LLC.

Description: Request for Limited Prospective Waiver, et al. of North Hills Wind Project, LLC.

Filed Date: 5/27/25.

Accession Number: 20250527-5132.

Comment Date: 5 p.m. ET 6/17/25.

Docket Numbers: ER25-2322-000.

Applicants: Midcontinent Independent System Operator, Inc.

Description: § 205(d) Rate Filing: 2025-05-28_SA 4321 MidAmerican-MidAmerican 1st Rev GIA (J1529) to be effective 5/20/2025.

Filed Date: 5/28/25.

Accession Number: 20250528-5053.

Comment Date: 5 p.m. ET 6/18/25.

Docket Numbers: ER25-2323-000.

Applicants: Midcontinent Independent System Operator, Inc.

Description: § 205(d) Rate Filing: 2025-05-28_SA 4320 MEC-MEC 1st Rev GIA (J1532) to be effective 5/21/2025.

Filed Date: 5/28/25.

Accession Number: 20250528-5056

Comment Date: 5 p.m. ET 6/18/25.

Docket Numbers: ER25-2324-000.

Applicants: Tri-State Generation and Transmission Association, Inc.

Description: § 205(d) Rate Filing: Amendment to Rate Schedule FERC No. 288 to be effective 5/21/2025.

Filed Date: 5/28/25.

Accession Number: 20250528-5061.

Comment Date: 5 p.m. ET 6/18/25.

Docket Numbers: ER25-2325-000.

Applicants: Southern California Edison Company.

Description:§ 205(d) Rate Filing: 2nd Amended LGIA, Daggett Solar 3 (TOT810/SA No. 225) to be effective 7/28/2025.

Filed Date: 5/28/25.

Accession Number: 20250528-5062.

Comment Date: 5 p.m. ET 6/18/25.

Docket Numbers: ER25-2326-000.Applicants: Southern California Edison Company.

Description: § 205(d) Rate Filing: 1st Amended LGIA, Daggett Solar 2 (TOT811/SA No. 224) to be effective 5/29/2025.

Filed Date: 5/28/25.

Accession Number: 20250528-5104.

Comment Date: 5 p.m. ET 6/18/25.

Docket Numbers: ER25-2327-000.

Applicants: PJM Interconnection, L.L.C.

Description: § 205(d) Rate Filing: Amendment to ISA, Service Agreement No. 6965; Queue No. AF2-130 to be effective 7/28/2025.

Filed Date: 5/28/25.

Accession Number: 20250528-5106.

Comment Date: 5 p.m. ET 6/18/25.

Docket Numbers: ER25-2328-000.

Applicants: PJM Interconnection, L.L.C.

Description: § 205(d) Rate Filing: Amendment to WMPA, SA No. 5981; Queue No. AG1-386 (amend) to be effective 7/28/2025.

Filed Date: 5/28/25.

Accession Number: 20250528-5115.

Comment Date: 5 p.m. ET 6/18/25.

Docket Numbers: ER25-2329-000.

Applicants: Avista Corporation.

Description: § 205(d) Rate Filing: Avista Corp—LTF PTP Agreement RS T-1252 IPCL to be effective 5/27/2025.

Filed Date: 5/28/25.

Accession Number: 20250528-5128.

Comment Date: 5 p.m. ET 6/18/25.

Docket Numbers: ER25-2330-000.

Applicants: Florida Power & Light Company.

Description: Florida Power & Light Company submits Notice of Cancellation of Rate Schedule FERC No. 314 and Rate Scheduled 315, between FPL and Seminole Electric Cooperative, Inc. and FPL and Brevard Energy LLC, respectively.

Filed Date: 5/27/25.

Accession Number: 20250527-5223.

Comment Date: 5 p.m. ET 6/17/25.

Docket Numbers: ER25-2331-000.

Applicants: Alabama Power Company, Georgia Power Company, Mississippi Power Company.

Description: Tariff Amendment: Alabama Power Company submits tariff filing per 35.15: SR Lincoln (Lincoln Solar) LGIA Termination Filing to be effective 5/28/2025.

Filed Date: 5/28/25.

Accession Number: 20250528-5142.

Comment Date: 5 p.m. ET 6/18/25.

Docket Numbers: ER25-2332-000.

Applicants: Basin Electric Power Cooperative.

Description: § 205(d) Rate Filing: Submission of Revised Wholesale Power Contract FERC Rate Schedule No. 8 to be effective 7/27/2025.

Filed Date: 5/28/25.

Accession Number: 20250528-5148.

Comment Date: 5 p.m. ET 6/18/25.

Docket Numbers: ER25-2333-000.

Applicants: Avista Corporation.

Description: § 205(d) Rate Filing: Avista Corp—LTF PTP Agreement, RS T-1223 AVA LSE to be effective 4/30/2024.

Filed Date: 5/28/25.

Accession Number: 20250528-5151.

Comment Date: 5 p.m. ET 6/18/25.

Docket Numbers: ER25-2334-000.

Applicants: Avista Corporation.

Description: § 205(d) Rate Filing: Avista Corp—LTF PTP Agreement, RS T-1222 AVA LSE to be effective 4/16/2024.

Filed Date: 5/28/25.

Accession Number: 20250528-5179.

Comment Date: 5 p.m. ET 6/18/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: May 28, 2025.
Carlos D. Clay,
Deputy Secretary.

[FR Doc. 2025-10104 Filed 6-3-25; 8:45 am]

BILLING CODE 6717-01-P